GENERAL SERVICES ADMINISTRATION

[FMR Bulletin 2009-B3]

Federal Management Regulation; Federal Real Property Report

AGENCY: General Services Administration.

ACTION: Notice.

SUMMARY: In furtherance of Federal Management Regulation (FMR) Bulletin 2008-B7, this notice announces the release of the Fiscal Year (FY) 2008 edition of the Federal Real Property Report, which provides an overview of the U.S. Government's owned and leased real property as of September 30, 2008. The FY 2008 Federal Real Property Report is now available.

DATES: Effective Date: September 21, 2009.

ADDRESSES: The FY 2008 Federal Real Property Report is now available on the Internet at http://www.gsa.gov/graphics/ogp/FY_2008_Real_Property_Report.pdf. A limited number of hard copies of the report can be obtained by contacting the Asset Management Division (MPA), Office of Governmentwide Policy, General Services Administration, 1800 F Street, NW., Washington, DC 20405.

FOR FURTHER INFORMATION CONTACT: Stanley C. Langfeld, Director, Regulations Management Division (MPR), General Services Administration (stanley.langfeld@gsa.gov).

Dated: September 14, 2009.
Michael J. Robertson,
Associate Administrator, Office of Governmentwide Policy, Chief Acquisition Officer.

General Services Administration

[FMR Bulletin 2009-B3]

Real Property

TO: Heads of Federal Agencies.

SUBJECT: Federal Real Property Report.

1. Purpose. This bulletin announces the FY 2008 release of the Federal Real Property Report, an overview of the U.S. Government's owned and leased real property as of September 30, 2008.

2. Expiration Date. This bulletin contains information of a continuing nature and will remain in effect until canceled.

3. Background.

(1) On February 4, 2004, the President issued Executive Order (EO) 13327, “Federal Real Property Asset Management,” and established the Federal Real Property Council (FRPC) to oversee the Federal Government's asset management planning process and to improve governmentwide real property performance. The EO requires the Administrator of General Services, in consultation with the FRPC, to develop and maintain a centralized inventory database, incorporating all key elements identified by the FRPC.

(2) The goals of the centralized database are to: (1) Improve decision making with more accurate and reliable data; (2) provide the ability to benchmark federal real property asset performance; and (3) centralize collection of key real property data elements into one federal inventory database. The Federal Real Property Profile (FRPP) system was re-engineered in FY 2005 and further enhanced in subsequent years to meet the FRPC's information technology requirements.

(3) The FY 2008 report marks the fourth reporting year for the governmentwide data elements designated by the FRPC as required by EO 13327. All executive branch agencies are required to submit constructed asset-level data to the FRPP on an annual basis. The FRPP is a secure, password-protected Web-based database that allows federal real property managers to update real property data online and in real time, perform historical benchmarking, produce ad hoc reports, measure performance of real property assets, and identify unneeded and underutilized assets for disposal. The Federal Real Property Report provides information regarding federal real property holdings.

4. How to Obtain a Copy of the Federal Real Property Report. The FY 2008 version of the Federal Real Property Report is posted on the GSA Web site at http://www.gsa.gov/graphics/ogp/FY_2008_Real_Property_Report.pdf. A limited number of hard copies of the report can be obtained by contacting the Asset Management Division (MPA), Office of Governmentwide Policy, General Services Administration, 1800 F Street, NW., Washington, DC 20405.

5. Further Information. For further information, contact Stanley C. Langfeld, Director, Regulations Management Division (MPR), Office of Governmentwide Policy, General Services Administration, at (202) 501-1737, or stanley.langfeld@gsa.gov.

[FR Doc. E9-22625 Filed 9-18-09; 8:45 am]

BILLING CODE 6820-RH-P